DEPARTMENT OF ENERGY

Proposed Agency Information Collection Submitted for OMB Review and Comment

AGENCY: Department of Energy.

ACTION: Review and comment.

SUMMARY: The Department of Energy (DOE) has submitted to the Office of Management and Budget (OMB) for clearance, a proposal for collection of information under the provisions of the Paperwork Reduction Act (44 U.S.C. Chapter 35). The proposed collection will provide a baseline measurement of knowledge of and opinions about hydrogen, fuel cells, and the hydrogen economy.

DATES: Comments on the proposed information collection must be received on or before February 11, 2004. If you anticipate that you will be submitting comments, but find it difficult to do so within the period of time allowed by this notice, please advise the OMB Desk Officer of your intention to make a submission as soon as possible.

ADDRESSES: Written comments should be sent to the DOE Desk Officer, Office of Information and Regulatory Affairs, Office of Management and Budget, New Executive Office Building, Room 10102, 735 17th Street, NW., Washington, DC 20503. (Comments should also be addressed to Susan L. Frey, Director, Records Management Division IM-11/Germantown Bldg., Office of Business and Information Management, Office of the Chief Information Officer, U.S. Department of Energy, Germantown, MD 20874-1290, and to Lorena F. Truett, Oak Ridge National Laboratory, National Transportation Research Center, 2360 Cherahala Boulevard, Room I-32, Knoxville, TN 37932.

FOR FURTHER INFORMATION CONTACT: Requests for additional information or copies of the information collection instrument and instructions should be directed to Lorena F. Truett using the contact information listed above.

SUPPLEMENTARY INFORMATION: This package contains:

(1) OMB No.: 1910-NEW.

(2) Package Title: Hydrogen, Fuel Cells & Infrastructure Technologies Program Baseline Knowledge Assessment.

(3) Type of Request: New collection.

(4) Purpose: The Baseline Knowledge Assessment for the DOE Hydrogen, Fuel Cells & Infrastructure Technologies (HFCIT) program will measure the levels of and changes in awareness and understanding of hydrogen and fuel cell technologies and the hydrogen economy within four target populations: (1) The general public, (2) students and educators, (3) personnel in state and local governments, and (4) potential users of hydrogen fuel and technologies in business and industry. Four distinct information collections will be required, one for each of the target populations. These collections will be conducted in stages, with the general public study conducted first. Changes relative to baseline knowledge levels will be determined when, after three years, each population group will be surveyed again using the same survey instrument and methodology. The instrument for assessing baseline knowledge will be specifically targeted to the population group. The public survey, for example, will assess a general knowledge of the production, storage, delivery, applications, and safety of hydrogen and fuel cells. Information gathered in this assessment will assist the HFCIT program in formulating an overall education plan for hydrogen technologies. Future surveys will provide a basis for determining changes in public awareness and understanding of the hydrogen economy, which is an important tool for knowing whether the education strategies should be modified and, if so, how.

(5) Type of Respondents: There are four populations to be surveyed; however, the general scope and temper of the four collections will be the same. The general public will be surveyed first. For the general public, a random (probability sample) survey of adults, age 18 and over, will be conducted via computer-assisted telephone interviews (CATI) or by other appropriate mechanism. About twenty closed-end questions will be posed. The second survey population will consist of a random sample of students—that is, teens (ages 12-17) and pre-teens (ages 6-11)—and educators. The third population will be randomly selected from energy agencies in all 50 states and the District of Columbia, plus a limited number of local (i.e., municipal) agencies. Finally, a limited number of large-scale or potential large-scale users of energy sources powered by hydrogen and fuel cells will also be interviewed using both closed-end and open-end questions.

(6) Estimated Number of Respondents: The numbers of respondents will differ for each of the populations. The general public survey will be of 1,000 adults; the educational survey is planned to include 1,000 students and approximately 100-150 educators; it is estimated that the total number of contacts with state and local agencies will be less than 100; finally, less than 50 interviews with large-scale users are planned.

(7) Estimated Number of Burden Hours: For the general public survey, the burden is estimated at ten minutes per respondent for 1,000 respondents, for a total time and cost burden of 167 hours and $0. The total burdens for the other populations will depend on the designs of those surveys but will be similar in temper and scope to the burden for the general public survey. The total time and cost burden for the student survey is tentatively estimated to be 133 hours and $0; the total burden for educators is estimated to be no more than 25 hours and $0. The total burden for the state and local government and large-scale user surveys is expected to be less than the burden for the student survey.

Statutory Authority: Energy Reorganization Act of 1974 (Pub. L. 93-438).

Issued in Washington, DC on January 5, 2004.
Susan L. Frey,
Director, Records Management Division, Office of Records and Business Management, Office of the Chief Information Officer.

[FR Doc. 04-574 Filed 1-9-04; 8:45 am]

BILLING CODE 6450-01-P